DEPARTMENT OF HEALTH AND HUMAN SERVICES

National Institutes of Health

National Institute on Aging; Alzheimer's Disease Neuroimaging Initiative

The National Institute on Aging (NIA) is announcing a meeting for the development of a neuroimaging initiative for Alzheimer's disease (AD) that will take place June 17-18, 2002 at the Hyatt Hotel, One Bethesda Metro Center, Bethesda, MD. The goal of this initiative is to foster a public-private collaboration for the development of longitudinal studies that will identify the neuroimaging modalities and techniques most appropriate for following elderly people as they develop mild cognitive impairment (MCI) and AD. In addition to providing natural history information, neuroimaging markers may allow early identification of individuals who may benefit from emerging preventive and treatment medications, provide a way of monitoring treatment efficacy and mechanism, and serve as surrogate endpoints in clinical trials.

Meeting participants will include representatives from academia, the Food and Drug Administration, pharmaceutical companies, imaging device companies, NIH staff, and advocacy groups. Presentations at the meeting will evaluate currently existing resources and knowledge regarding neuroimaging in MCI and AD by examining available clinical, neuropsychological, laboratory, and imaging data from prior natural history and epidemiology studies and clinical trials. The participants will prioritize research opportunities and needs and recommend an initial plan to develop and utilize resources. They will identify longitudinal study design options, assess the strengths and weaknesses of various imaging modalities, and discuss which brain areas are critical to measure. This meeting will also discuss subject selection, multi-side data collection and analysis, surrogate marker criteria, and administrative and data-sharing issues.

All interested parties are invited to attend this meeting. A block of hotel rooms is being held at the Bethesda Wyatt until May 21, 2002.

For further information about the AD neuroimaging initiative contact: Dr. Neil Burkholtz at 301-496-9350, e-mail <buckholn@exmur.nia.nih.gov> or Dr. Susan Molchan at 301-496-3909, e-mail <molchans@mail.nih.gov>. Hotel and travel arrangements are being handled by Courtesy Associates (Ms. Vicki Hill, 703-960-3178; Ms. Susan Dolibois, 202-367-2352); e-mail <sdolibois@courtesyassoc.com>).

Dated: May 9, 2002.
Richard Hodes,
Director, NIA.

[FR Doc. 02-12228 Filed 5-15-02; 8:45 am]

BILLING CODE 4141-01-P